DEPARTMENT OF THE INTERIOR

Bureau of Land Management

[CO-800-1610-DP 016C]

DEPARTMENT OF AGRICULTURE

Forest Service

Notice of Availability of Draft San Juan Land Management Plan and Draft Environmental Impact Statement, Colorado

AGENCY: Bureau of Land Management, Interior. Forest Service, Agriculture.

ACTION: Notice of Availability.

SUMMARY: In accordance with the National Environmental Policy Act of 1969 (NEPA, 42 U.S.C. 4321 et seq.), the Forest and Rangeland Renewable Resources Planning Act of 1974 (RPA), as amended by the National Forest Management Act of 1976, (NFMA, Sec. 6, 16 U.S.C. 1600.), and the Federal Land Policy and Management Act of 1976 (FLPMA, 43 U.S.C. 1701 et seq.), the Bureau of Land Management (BLM) San Juan Field Office and San Juan National Forest, U.S. Forest Service (USFS) has prepared a Draft Land Management Plan/Draft Environmental Impact Statement (DLMP/DEIS) for the public and National Forest System Lands under their jurisdiction and by this notice is announcing the opening of the comment period. The BLM San Juan Field Office and San Juan National Forest are managed under Service First. The San Juan Public Lands Center (SJPLC) is the joint USFS/BLM Service First Office responsible for the management of these public lands. Service First is a partnership strategy to provide better customer service and be more cost effective in the delivery of those services to users of the public lands in southwest Colorado. This notice also meets BLM requirements in 43 CFR part 1610, 7-2(b) concerning potential Areas of Critical Environmental Concern (ACECs).

DATES: The San Juan DLMP/DEIS will be available for public review for 90 days from the date the Environmental Protection Agency publishes its Notice of Availability in the Federal Register. The SJPLC can best use comments and resource information submitted within this review period. The SJPLC will announce future meetings or hearings and any other public involvement activities at least 15 days in advance through public notices, local media news releases, and/or mailings, and posting on the project Web site at http://ocs.fortlewis.edu/forestPlan. Public meetings will be held in Pagosa Springs, Durango and Cortez, Colorado and in other locations, if warranted.

ADDRESSES: The document will be available electronically at the following Web site: http://ocs.fortlewis.edu/forestPlan. Copies of the DLMP/DEIS are also available at the following government office addresses during regular business hours:

• San Juan Public Lands Center, 15 Burnett Court, Durango, CO 81301.

• Columbine Field Office, 367 Pearl St., Bayfield, CO 81122.

• Dolores Public Lands Office, 100 North 6th St., Dolores, CO 81323.

• Pagosa Springs Field Office, 180 Pagosa Street, Pagosa Springs, CO 81147.

• Colorado State Office BLM, 2850 Youngfield Street, Lakewood, CO 80215.

• USDA Forest Service, Rocky Mountain Region, 740 Simms St, Golden, CO 80401.

Libraries in Cortez, CO; Durango, CO; Pagosa Springs, CO; Colorado State University, Ft. Collins, CO; University of Colorado, Boulder, CO; and Ft. Lewis College, Durango, CO 81301

You may submit comments by any of the following methods:

• Web site: http://ocs.fortlewis.edu/forestPlan.

• Facsimile: (916) 456-6724

• Mail: LMP Comments, San Juan Plan Revision, P.O. Box 162909, Sacramento, California 95816-2909.

FOR FURTHER INFORMATION CONTACT: Shannon Manfredi, Planning Team Leader at San Juan Public Land Center, 15 Burnett Ct., Durango, CO 81301. Phone: (970) 385-1229. To have your name added to the San Juan Plan Revision mailing list, or to view and download the DLMP/DEIS in Portable Document Format (PDF) go to the project Web site: http://ocs.fortlewis.edu/forestPlan.

SUPPLEMENTARY INFORMATION: The planning area is located in Southwest Colorado in Archuleta, Conejos, Dolores, Hinsdale, La Plata, Mineral, Montezuma, Montrose, Rio Grande, San Juan, San Miguel counties. The plan will provide a framework to guide subsequent management decisions on approximately 1,867,800 acres of the San Juan National Forest. Of the 1,867,800 acres, BLM administers 500,000 surface acres and 300,000 acres of subsurface mineral estate. San Juan Public Land Center is currently being managed under the BLM 1985 San Juan/San Miguel Resource Management Plan (RMP) and the 1983 San Juan National Forest Land Management Plan.

• Bureau of Land Management Resource Management Plan

The current RMP was approved in 1985 and has been amended five times. Wilderness Study Areas were designated in 1980 and are currently being managed under interim guidance provided by the Interim Management Policy and Guidance for Lands under Wilderness Review until such time that Congress makes a final wilderness decision. This revised Plan discusses how those lands would be managed if Congress released them from wilderness study.

• Forest Service Land Management Plan

The current San Juan National Forest Land Management Plan was approved in 1983, with a major amendment in 1992 and twenty other amendments. This revised Plan has been prepared using the provisions of the 1982 planning rule (36 CFR part 219), as provided by the 2004 interpretative rule which clarified the transition provisions of the planning rule adopted on November 9, 2000.

The SJPLC has worked extensively with the community, interested and affected publics, and cooperating agencies in development of the DLMP/DEIS. The SJLPC conducted a broad community-based public input process. Cooperating agencies include Montezuma County, and the City of Rico, Colorado. Four alternatives are analyzed in the DLMP/DEIS.

• Alternative A, the No Action Alternative, is the continuation of present management under the existing BLM and Forest Service plans. It meets the requirements of the NEPA that a no action alternative be considered. The current levels of products, services, and outputs of multiple use management from the public lands in the planning area would continue except for fluctuations due to budget. Activities such as timber harvest and oil and gas development would potentially occur over a greater percentage of the San Juan Public Lands in Alternative A than in other alternatives.

• Alternative B, the Preferred Alternative, provides a mix of multiple-use activities with a primary emphasis on maintaining most of the large, contiguous blocks of undeveloped lands and enhancing various forms of recreation opportunities, while maintaining the diversity of uses and active forest and rangeland vegetation management. Alternative B is focused on balancing the ideas of maintaining “working forest and rangelands” and of retaining “core, undeveloped lands.” Uses and activities that require roads, such as timber harvesting and oil and gas development would be focused in areas that already have roads. Relatively undeveloped areas, that currently do not have roads would, for the most part, remain that way.

• Alternative C, provides a mix of multiple-use activities with primary emphasis on the undeveloped character of the San Juan. Production of goods from vegetation management would continue but may be secondary to other non-commodity objectives. Management provisions under this alternative would emphasize the undeveloped character of large blocks of contiguous land and non-motorized recreational activities to a greater degree than the other alternatives.

• Alternative D, provides a mix of multiple-use activities with a primary emphasis on the working forest and rangelands to produce the highest amounts of commodity goods and services of the alternatives. This alternative would allow the greatest extent of resource use within the planning area, while maintaining ecosystem management principles to protect and sustain resources. Potential impacts to sensitive resource values would be mitigated on a case-by-case basis.

As required by Section 202(c)(3) of FLPMA, the DLMP/DEIS considers the designation of ACECs on BLM administered lands. Potential ACEC acres vary by alternative as shown in the table below.

Acres of BLM-Managed Surface Estate Proposed To Be Managed as ACECs Under the Alternatives in the Draft LMP/EIS
Values and use limitations | Alternative A | Alternative B (Preferred) | Alternative C | Alternative D
Big Gypsum Valley | 0 | 6,062 | 17,116 | 0
Values: Natural systems (sensitive plants)
Limitations: Apply a no surface occupancy (NSO) stipulation for oil and gas leasing and other surface disturbing activities, limit Off Highway Vehicle (OHV) to designated routes, manage as Visual Resource Management (VRM) II
Mud Springs/Remnant Ansazi ACEC | 1,160 | 0 | 1,160 | 0
Values: Cultural and natural systems
Limitations: Apply a no surface occupancy (NSO) stipulation for oil and gas leasing and other surface disturbing activities, limit Off Highway Vehicle (OHV) to designated routes, and allow no new routes
Silvies Pocket | 0 | 0 | 707 | 0
Value: Natural systems (sensitive plants)
Limitations: Manage as VRM II, apply NSO stipulation for oil and gas leasing and other surface disturbing activities, and limit Off Highway Vehicle (OHV) to designated routes
Grassy Hills | 0 | 0 | 420 | 0
Value: Natural systems (sensitive plants)
Limitations: Apply NSO stipulation for oil and gas leasing and other surface disturbing activities, limit OHV to designated routes, use grazing systems to protect prairie dog habitat
Total Acres | 1,160 | 6,062 | 19,403 | 0

Other key management concerns addressed in the Draft LMP/DEIS include:

• Balancing Management between the ideas of maintaining “Working Forest and Rangelands” and Retaining “Core Undeveloped Areas”,

• Recreation and Travel Management,

• Management of Special Areas and Unique Landscapes (including ACECs, Forest Service wilderness recommendations, and suitability of rivers for Congressional designation into the Wild and Scenic Rivers System),

• Oil and Gas Leasing and Development.

Comments, including names and addresses of respondents, will be available for public review at the SJPLC, and will be subject to disclosure under the Freedom of Information Act (FOIA). Before including your address, phone number, e-mail address, or other personal identifying information in your comment, be advised that your entire comment—including your personal identifying information—may be made publicly available at any time. While you can ask us in your comment to withhold from public review your personal identifying information, we cannot guarantee that we will be able to do so.

Sally Wisely,
Colorado State Director.
Mark Stiles,
Forest Supervisor.

[FR Doc. E7-24208 Filed 12-13-07; 8:45 am]

BILLING CODE 4310-DK-P